DEPARTMENT OF HEALTH AND HUMAN SERVICES

[Document Identifier: 0990-New; 60-Day Notice]

Agency Information Collection Request. 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, email your request, including your address, phone number, OMB number, and OS document identifier, to Sherette.funncoleman@hhs.gov, or call the Reports Clearance Office at (202) 690-6162. Written comments and recommendations for the proposed information collections must be directed to the OS Paperwork Clearance Officer at the above e-mail address within 60-days.

Proposed Project: The Children's Health Insurance Program Reauthorization Act (CHIPRA) 10-State Evaluation—OMB No. 0990-NEW—Assistant Secretary Planning and Evaluation (ASPE).

Abstract: The Office of the Assistant Secretary for Planning and Evaluation (ASPE) is requesting the Office of Management and Budget (OMB) approval on a new collection to provide the Federal government with new and detailed insights into how the Children's Health Insurance Program (CHIP) has evolved since its early years, what impacts on children's coverage and access to care have occurred, and what new issues have arisen as a result of policy changes related to CHIPRA and the Patient Protection and Affordable Care Act (The Affordable Care Act) of 2010 (Pub. L. 111-148). The evaluation will address numerous key questions regarding the structure and impact of CHIP and Medicaid programs for children. To answer these questions, ASPE will draw on three new primary data collection efforts, including a survey of selected CHIP enrollees and disenrollees in 10 states (and Medicaid enrollees and disenrollees in 3 of these states), qualitative case studies in the 10 states, and a survey of State Program Administrators in all 50 States and the District of Columbia. This current request seeks clearance for the first two information collections; ASPE will seek clearance for the third information collection at a later date. All data collection will take place one time only over a three year period. The survey component includes a sample of children in 10 selected states, recently enrolled or disenrolled in CHIP or Medicaid. Survey data will be collected using computer-assisted telephone interviewing with an in-person follow-up. The qualitative case studies will include site visit interviews with CHIP and Medicaid administrators and public and child health stakeholders, plus focus groups with parents or family members of CHIP enrollees.

Estimated Annualized Burden Table
Forms | Type of respondent | Number of respondents | Number of responses per respondent | Average burden per response (in hours) | Total burden hours
Survey of CHIP Enrollees and Disenrollees | CHIP enrollees and disenrollees | 15,000 | 1 | 30/60 | 7,500
Survey of Medicaid Enrollees and Disenrollees | Medicaid enrollees and disenrollees | 4,500 | 1 | 30/60 | 2,250
Site Visits | CHIP and Medicaid personnel—1 | 300 | 1 | 1 | 300
Focus Groups | Parents and other family members of children—2 | 80 | 1 | 2 | 160
Total Burden |  |  |  |  | 10,210

Seleda Perryman,
Office of the Secretary, Paperwork Reduction Act Clearance Officer.

[FR Doc. 2011-7169 Filed 3-25-11; 8:45 am]

BILLING CODE 4150-05-P